OFFICE OF THE UNITED STATES TRADE REPRESENTATIVE

Procurement Thresholds for Implementation of the Trade Agreements Act of 1979

AGENCY: Office of the United States Trade Representative.

ACTION: Notice.

SUMMARY: The U.S. Trade Representative has determined the U.S. dollar procurement thresholds to implement certain U.S. trade agreement obligations, as of January 1, 2026, for calendar years 2026 and 2027.

DATES: This notice is applicable on January 1, 2026, for calendar years 2026 and 2027.

FOR FURTHER INFORMATION CONTACT: Kate Psillos, Deputy Assistant U.S. Trade Representative for WTO and Multilateral Affairs, at (202) 395-9581 or Kathryn.W.Psillos@ustr.eop.gov.

SUPPLEMENTARY INFORMATION: Executive Order 12260 requires the U.S. Trade Representative to set the U.S. dollar thresholds for application of Title III of the Trade Agreements Act of 1979, as amended (19 U.S.C. 2511 et seq.). These obligations apply to covered procurements valued at or above specified U.S. dollar thresholds. Due to a lapse in appropriations, the Bureau of Labor Statistics (BLS) has delayed the release of certain data required to calculate the thresholds for the following agreements: (1) The United States-Australia Free Trade Agreement; (2) The United States-Bahrain Free Trade Agreement; (3) The United States-Chile Free Trade Agreement; (4) The United States-Colombia Trade Promotion Agreement; (5) The Dominican Republic-Central American-United States Free Trade Agreement; (6) The United States-Mexico-Canada Agreement (USMCA); (7) The United States-Oman Free Trade Agreement; and (8) The United States-Singapore Free Trade Agreement. The thresholds for these agreements will be updated via a subsequent Federal Register notice following the release of the necessary BLS data in January 2026. Until such time, the existing thresholds for these agreements shall remain in place.

In conformity with the provisions of Executive Order 12260, and in order to carry out U.S. trade agreement obligations, the U.S. Trade Representative has determined the U.S. dollar procurement thresholds, effective on January 1, 2026, for calendar years 2026 and 2027 are as follows:

I. World Trade Organization (WTO) Agreement on Government Procurement

A. Central Government Entities listed in U.S. Annex 1:

(1) Procurement of goods and services—$174,000; and

(2) Procurement of construction services—$6,683,000.

B. Sub-Central Government Entities listed in U.S. Annex 2:

(1) Procurement of goods and services—$474,000; and

(2) Procurement of construction services—$6,683,000.

C. Other Entities listed in U.S. Annex 3:

(1) Procurement of goods and services—$535,000; and

(2) Procurement of construction services—$6,683,000.

II. Chapter 17 of the United States-Korea Free Trade Agreement

A. Central Government Entities listed in the U.S. Schedule to Annex 17-A, Section A:

(1) Procurement of construction services—$6,683,000.

III. Chapter 9 of the United States-Morocco Free Trade Agreement

A. Central Government Entities listed in the U.S. Schedule to Annex 9-A-1:

(1) Procurement of goods and services—$174,000; and

(2) Procurement of construction services—$6,683,000.

B. Sub-Central Government Entities listed in the U.S. Schedule to Annex 9-A-2:

(1) Procurement of goods and services—$474,000; and

(2) Procurement of construction services—$6,683,000.

C. Other Entities listed in the U.S. Schedule to Annex 9-A-3:

(1) Procurement of goods and services for List B Entities—$535,000; and

(2) Procurement of construction services—$6,683,000.

IV. Chapter 9 of the United States-Panama Trade Promotion Agreement

A. Central Government Entities listed in the U.S. Schedule to Annex 9.1, Section A:

(1) Procurement of goods and services—$174,000; and

(2) Procurement of construction services—$6,683,000.

B. Sub-Central Government Entities listed in the U.S. Schedule to Annex 9.1, Section B:

(1) Procurement of goods and services—$474,000; and

(2) Procurement of construction services—$6,683,000.

C. Other Entities listed in the U.S. Schedule to Annex 9.1, Section C:

(1) Procurement of goods and services for List B Entities—$535,000; and

(2) Procurement of construction services—$6,683,000.

D. Autoridad del Canal de Panamá

(1) Procurement of goods and services—$537,000.

V. Chapter 9 of the United States-Peru Trade Promotion Agreement

A. Central Government Entities listed in the U.S. Schedule to Annex 9.1, Section A:

(1) Procurement of goods and services—$174,000; and

(2) Procurement of construction services—$6,683,000.

B. Sub-Central Government Entities listed in the U.S. Schedule to Annex 9.1, Section B:

(1) Procurement of goods and services—$474,000; and

(2) Procurement of construction services—$6,683,000.

C. Other Entities listed in the U.S. Schedule to Annex 9.1, Section C:

(1) Procurement of goods and services for List B Entities—$535,000; and

(2) Procurement of construction services—$6,683,000.

Neil Beck,
Assistant U.S. Trade Representative for WTO and Multilateral Affairs, Office of the United States Trade Representative.

[FR Doc. 2025-24130 Filed 12-31-25; 8:45 am]

BILLING CODE 3390-F4-P